DEPARTMENT OF ENERGY

Federal Energy Regulatory Commission

[Docket Nos. CP01-4-000, CP01-5-000, and CP01-8-000]

Maritimes & Northeast Pipeline, L.L.C., Algonquin Gas Transmission Company and Texas Eastern Transmission Corporation; Notice of Availability of the Final Environmental Impact Statement for the Proposed Phase III/Hubline Pipeline Project

November 15, 2001.

The staff of the Federal Energy Regulatory Commission (FERC or Commission) has prepared a Final Environmental Impact Statement (FEIS) on the natural gas pipeline facilities proposed by Maritimes & Northeast Pipeline, L.L.C. (Maritimes), and Algonquin Gas Transmission Company (Algonquin) (collectively the Applicants) in the above-referenced docket.

The FEIS was prepared to satisfy the requirements of the National Environmental Policy Act. The staff concludes that approval of the proposed project with the appropriate mitigating measures as recommended would have limited adverse environmental impact. The FEIS also evaluates alternatives to the proposal, including major route alternatives and route variations.

The FEIS addresses the potential environmental effects of the construction and operation of the following facilities:

• About 24.8 miles of new, primarily onshore, natural gas pipeline (23.8 miles of 30-inch-diameter pipeline and 1.0 mile of 24-inch-diameter pipeline) referred to as the Maritimes Phase III Pipeline;

• About 29.1 miles of new, primarily offshore, natural gas pipeline (24-inch-diameter pipeline) referred to as the HubLine Pipeline;

• About 5.4 miles of new, primarily offshore, natural gas pipeline (16-inch-diameter pipeline) referred to as the Deer Island Lateral; and

• Three new meter stations, four mainline valves, and related facilities.

The purpose of the proposed facilities would be to transport about 150,500 decatherms per day of natural gas to five customers in Massachusetts and Connecticut. In addition, the project would provide leased capacity of 80,000 decatherms per day of natural gas for Texas Eastern Transmission Corporation.

Joint State and Federal Review

On September 14, 2001, the Secretary of the Executive Office of Environmental Affairs for the Commonwealth of Massachusetts issued a Certificate on the Draft Environmental Impact Report (DEIR) for these projects. The Secretary determined that the DEIR, prepared pursuant to the Massachusetts Environmental Policy Act (MEPA), “adequately and properly complies with the Massachusetts Environmental Policy Act and with its implementing regulations.” (Citations omitted). It also indicated that:

As discussed below, I am satisfied that the proponent has presented enough information on alternatives and impacts to demonstrate that the preferred alternative is feasible and less environmentally damaging than other alternatives. The project can advance to the Final EIR stage. However, there are several important issues that must be addressed in the Final EIR, including analysis of local routing alternatives, analysis of construction alternatives, and more information of the impacts and mitigation associated with the preferred alternative.

To accomplish the goal of addressing the requirements of both the state and the Federal government in a single document, the Applicants intend to file the FEIS with the MEPA office along with supplemental materials (Supplement) that will respond to specific issues identified in the state Certificate that may not have been identified or specifically addressed in the FEIS. The Supplement will include an appendix containing comments received since the DEIR with indexed and narrative responses by the Applicants. The Supplement and the FEIS are collectively intended to comprise the Final EIR for purposes of review under MEPA.

FERC Process

The FEIS has been placed in the public files of the FERC and is available for public inspection at: Federal Energy Regulatory Commission, Public Reference and Files Maintenance Branch, 888 First Street, NE., Room 2A, Washington, DC 20426, (202) 208-1371.

Copies of the FEIS have been mailed to Federal, state, and local agencies; public interest groups; individuals who have requested the FEIS; newspapers, and parties to this proceeding.

In accordance with Council on Environmental Quality (CEQ) regulations implementing the National Environmental Policy Act, no agency decision on a proposed action may be made until 30 days after the U.S. Environmental Protection Agency publishes a notice of availability of an FEIS. However, the CEQ regulations provide an exception to this rule when an agency decision is subject to a formal internal appeal process that allows other agencies or the public to make their views known. In such cases, the agency decision may be made at the same time the notice of the FEIS is published, allowing both periods to run concurrently. The Commission decision for this proposed action is subject to a 30-day rehearing period.

Additional information about the proposed project is available from the Commission's Office of External Affairs at (202) 208-1088 or on the FERC internet website (www.ferc.gov) using the “RIMS” link to information in this docket number. Click on the “RIMS” link, select “Docket #” from the RIMS menu, and follow the instructions. For assistance with access to RIMS, the RIMS helpline can be reached at (202) 208-2222.

Similarly, the “CIPS” link on the FERC internet website provides access to the texts of formal documents issued by the Commission, such as orders, notices, and rulemakings. From the FERC internet web site, click on the “CIPS” link, select “Docket #” from the CIPS menu, and follow the instructions. For assistance with access to CIPS, the CIPS helpline can be reached at (202) 208-2474.

David P. Boergers,
Secretary.

[FR Doc. 01-29072 Filed 11-20-01; 8:45 am]

BILLING CODE 6717-01-P